DEPARTMENT OF ENERGY

Federal Energy Regulatory Commission

Combined Notice of Filings

Take notice that the Commission has received the following Natural Gas Pipeline Rate and Refund Report filings:

Filings Instituting Proceedings

Docket Numbers: RP19-693-000.

Applicants: Texas Eastern Transmission, LP.

Description: § 4(d) Rate Filing: Negotiated Rate—ENI 8956185 eff 3-1-19 to be effective 3/1/2019.

Filed Date: 2/26/19.

Accession Number: 20190226-5031.

Comments Due: 5 p.m. ET 3/11/19.

Docket Numbers: RP19-694-000.

Applicants: Fayetteville Express Pipeline LLC.

Description: § 4(d) Rate Filing: Negotiated Rate Agreement (AMA) Filing to be effective 3/1/2019.

Filed Date: 2/26/19.

Accession Number: 20190226-5073.

Comments Due: 5 p.m. ET 3/11/19.

Docket Numbers: RP19-695-000.

Applicants: Algonquin Gas Transmission, LLC.

Description: § 4(d) Rate Filing: Negotiated Rates—Boston 510798 to UGI 798712 eff 3-1-19 to be effective 3/1/2019.

Filed Date: 2/26/19.

Accession Number: 20190226-5109.

Comments Due: 5 p.m. ET 3/11/19.

Docket Numbers: RP19-696-000.

Applicants: Algonquin Gas Transmission, LLC.

Description: § 4(d) Rate Filing: Negotiated Rate—Bay State to BBPC 798786 eff 3-1-19 to be effective 3/1/2019.

Filed Date: 2/26/19.

Accession Number: 20190226-5130.

Comments Due: 5 p.m. ET 3/11/19.

Docket Numbers: RP19-697-000.

Applicants: Midwestern Gas Transmission Company.

Description: Compliance filing Fuel Retention Percentage Implementation to be effective 3/28/2019.

Filed Date: 2/26/19.

Accession Number: 20190226-5133.

Comments Due: 5 p.m. ET 3/11/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 27, 2019.
Nathaniel J. Davis, Sr.,
Deputy Secretary.

[FR Doc. 2019-03878 Filed 3-4-19; 8:45 am]

BILLING CODE 6717-01-P